DEPARTMENT OF LABOR

Employee Benefits Security Administration

Agency Information Collection Activities; Announcement of OMB Approvals

AGENCY: Employee Benefits Security Administration, Labor.

ACTION: Notice.

SUMMARY: The Employee Benefits Security Administration (EBSA) announces that the Office of Management and Budget (OMB) has approved certain collections of information, listed in the Supplementary Information below, following EBSA's submission of requests for such approvals under the Paperwork Reduction Act of 1995 (PRA) (44 U.S.C. 3501 et seq.). This notice describes the information collections that have been approved or re-approved, their OMB control numbers, and their current expiration dates.

FOR FURTHER INFORMATION CONTACT: G. Christopher Cosby, Office of Policy and Research, Employee Benefits Security Administration, U.S. Department of Labor, 200 Constitution Avenue, NW., Room N-5718, Washington, DC 20210. Telephone: (202) 693-8410; Fax: (202) 219-4745. These are not toll-free numbers.

SUPPLEMENTARY INFORMATION: The PRA and its implementing regulations require Federal agencies to display OMB control numbers and inform respondents of their legal significance after OMB has approved an agency's information collections. In accordance with those requirements, EBSA hereby notifies the public that the following information collections have been re-approved by OMB following EBSA's submission of an information collection request (ICR) for extension of a prior approval:

• OMB Control No. 1210-0101, Notice of Special Enrollment Rights Under Group Health Plans (final regulation). The expiration date for this information collection is December 31, 2009.

• OMB Control No. 1210-0102, Notice of Pre-Existing Condition Exclusion Under Group Health Plans (final regulation). The expiration date for this information collection is December 31, 2009.

• OMB Control No. 1210-0103, Establishing Creditable Coverage under Group Health Plans (final regulation). The expiration date for this information collection is December 31, 2009.

• OMB Control No. 1210-0065, Securities Lending by Employee Benefit Plans (PTE 2006-16). The expiration date for this information collection is December 31, 2009.

• OMB Control No. 1210-0116, Annual Report for Multiemployer Welfare Arrangements (Form M-1). The expiration date for this information collection is February 28, 2010.

• OMB Control No. 1210-0125, ERISA Investment Manager Electronic Registration (final regulation). The expiration date for this information collection is February 28, 2010.

• OMB Control No. 1210-0039, Summary Description Requirements Under ERISA (final regulation). The expiration date for this information collection is March 31, 2010.

• OMB Control No. 1210-0053, Employee Benefit Plan Claims Procedures Under ERISA (final regulation). The expiration date for this information collection is April 30, 2010.

• OMB Control No. 1210-0064, Sale of Securities to Reduce Indebtedness of Party in Interest (PTE 80-63). The expiration date for this information collection is April 30, 2010.

• OMB Control No. 1210-0092, Security Transactions with Broker-Dealers, Reporting Dealers and Banks (PTE 75-1). The expiration date for this information collection is April 30, 2010.

• OMB Control No. 1210-0095, Residential Mortgage Financing Arrangements Involving Employee Benefit Plans (PTE 88-59). The expiration date for this information collection is April 30, 2010.

• OMB Control No. 1210-0119, Petition For Finding Under Section 3(40) of ERISA (final regulation). The expiration date for this information collection is April 30, 2010.

• OMB Control No. 1210-0063, Sale of Individual Life Insurance or Annuity Contracts by a Plan (PTE 92-6). The expiration date for this information collection is August 31, 2010.

• OMB Control No. 1210-0079, Transactions Between Individual Retirement Accounts and Authorized Purchasers of American Eagle Coins (PTE 91-55). The expiration date for this information collection is August 31, 2010.

• OMB Control No. 1210-0094, Prohibited Transaction Class Exemption Permitting Employee Benefit Plans to Invest in Customer Notes of Employers (PTE 85-68). The expiration date for this information collection is August 31, 2010.

• OMB Control No. 1210-0123, Notice Requirements of the Health Care Continuation Provisions (final regulation). The expiration date for this information collection is August 31, 2010.

• OMB Control No. 1210-0110, Annual Information Return/Report (Form 5500). The expiration date for this information collection is September 30, 2010.

EBSA also notifies the public that the following new information collections have been approved by OMB following EBSA's submission of an information collection request (ICR):

• OMB Control No. 1210-0129, HDCI 2 Survey of Group Health Plans (survey). The expiration date for this information collection is April 30, 2010.

• OMB Control No. 1210-0130, Statutory Exemption for Cross-Trading (interim final regulation). The expiration date for this information collection is April 30, 2010.

• OMB Control No. 1210-0132, Default Investment Alternatives under Participant Directed Individual Account Plans (final regulation). The expiration date for this information collection October 31, 2010.

The PRA provides that an agency may not conduct or sponsor, and a person is not required to respond to, a collection of information unless it displays a currently valid OMB control number. Publication of this notice satisfies this requirement with respect to the above-listed information collections, as provided in 5 CFR 1320.5(b)(2)(C).

Dated: November 28, 2007.
Joseph S. Piacentini,
Director, Office of Policy and Research, Employee Benefits Security Administration.

[FR Doc. E7-23554 Filed 12-4-07; 8:45 am]

BILLING CODE 4510-29-P